ENVIRONMENTAL PROTECTION AGENCY

40 CFR Part 62

[EPA-R01-OAR-2007-0136; A-1-FRL-8295-5]

Approval and Promulgation of State Plans for Designated Pollutants and Facilities; Rhode Island; Negative Declaration

AGENCY: Environmental Protection Agency (EPA).

ACTION: Proposed rule.

SUMMARY: The EPA is proposing to approve the Sections 111(d) and 129 negative declaration submitted by the State of Rhode Island. This negative declaration adequately certifies that there are no existing “other solid waste incineration” (OSWI) units located within the boundaries of the State of Rhode Island.

DATES: Written comments must be received on or before May 7, 2007.

ADDRESSES: Submit your comments, identified by Docket ID No. EPA-R01-OAR-2007-0136 by one of the following methods:

1. http://www.regulations.gov: Follow the on-line instructions for submitting comments.

2. E-mail: cohen.ian@epa.gov.

3. Fax: (617) 918-0655.

4. Mail: “EPA-R01-OAR-2007-0136”, Dan Brown, Chief, Air Permits, Toxics, and Indoor Air Unit, Office of Ecosystem Protection, U.S. Environmental Protection Agency, EPA New England Regional Office, One Congress Street, Suite 1100 (mail code CAP), Boston, MA 02114-2023.

5. Hand Delivery or Courier. Deliver your comments to: Dan Brown, Chief, Air Permits, Toxics, and Indoor Air Unit, Office of Ecosystem Protection, U.S. Environmental Protection Agency, EPA New England Regional Office, One Congress Street, 11th floor, (CAP), Boston, MA 02114-2023. Such deliveries are only accepted during the Regional Office's normal hours of operation. The Regional Office's official hours of business are Monday through Friday, 8:30 p.m. to 4:30 p.m., excluding legal holidays.

Please see the direct final rule which is located in the Rules Section of this Federal Register for detailed instructions on how to submit comments.

FOR FURTHER INFORMATION CONTACT: Ian D. Cohen, Air Permits, Toxics, and Indoor Air Programs, U.S. Environmental Protection Agency, EPA New England Regional Office, One Congress Street (CAP), Boston, MA 02114-2023, telephone number (617) 918-1655, fax number (617) 918-0655, e-mail cohen.ian@epa.gov.

SUPPLEMENTARY INFORMATION: In the Final Rules Section of this Federal Register, EPA is approving the negative declaration for OSWI units in Rhode Island as a direct final rule without prior proposal because the Agency views this as a noncontroversial submittal and anticipates no adverse comments. A detailed rationale for the approval is set forth in the direct final rule. If no adverse comments are received in response to this action rule, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

For additional information, see the direct final rule which is located in the Rules Section of this Federal Register.

Dated: March 27, 2007.
Robert W. Varney,
Regional Administrator, EPA New England.

[FR Doc. E7-6461 Filed 4-5-07; 8:45 am]

BILLING CODE 6560-50-P